DEPARTMENT OF THE INTERIOR

Bureau of Land Management

[LLCAD01000 L12100000.XK0000 20XL1109AF (MO#4500141992)]

Meeting of the California Desert District Advisory Council

AGENCY: Bureau of Land Management, Interior.

ACTION: Notice of public meeting.

SUMMARY: In accordance with the Federal Land Policy and Management Act of 1976, and the Federal Advisory Committee Act of 1972, the U.S. Department of the Interior, Bureau of Land Management (BLM) California Desert District Advisory Council (Council) will meet as indicated below.

DATES: The Council's next meeting will be held April 3-4, 2020. The Council will participate in a field tour of BLM-administered public lands on Friday, April 3, 2020, from 8:00 a.m. to 4:30 p.m. and then will hold a meeting on Saturday, April 4, 2020, from 9:00 a.m. to 4:30 p.m.

ADDRESSES: The Friday field tour will leave from the El Centro Field Office, 1661 South 4th Street, El Centro, CA 92243. Saturday's public meeting will be held at the Fairfield Inn & Suites, located at 503 E. Danenberg Drive, El Centro, CA 92243. Final locations and agendas for the field trip and public meeting will be posted on the BLM web page at: https://www.blm.gov/get-involved/rac/california/california-desert-district, when finalized.

Written comments for the Council may be sent in advance of the Saturday meeting c/o BLM, Public Affairs, 22835 Calle San Juan de Los Lagos, Moreno Valley, CA 92553.

FOR FURTHER INFORMATION CONTACT: Michelle Van Der Linden, BLM California Desert District Office, telephone: 951-697-5217, email: mvanderlinden@blm.gov. Persons who use a telecommunications device for the deaf (TDD) may call the Federal Relay Service (FRS) at 1-800-877-8339 to contact Ms. Van Der Linden during normal business hours. The FRS is available 24 hours a day, 7 days a week, to leave a message or question. You will receive a reply during normal business hours.

SUPPLEMENTARY INFORMATION: The Council provides recommendations to the Secretary of the Interior concerning the planning and management of the public land resources located within the BLM's California Desert District and offers advice on the implementation of the comprehensive, long-range plan for management, use, development, and protection of the public lands within the California Desert Conservation Area.

All Council meetings and field tours are open to the public, but the public must provide their own transportation, meals, and beverages.

The field tour will include visits to Hunter's Camp, Milpitas Wilderness, and the Palo Verde Cultural site. The Saturday public meeting will include an update on Dingell Act implementation activities, the role and function of Council subgroups, desert tortoise management, Devil's Canyon access, fire and fuels operations, a discussion on Secretarial Orders, and a briefing on the Desert Spring study. Members of the public will have the opportunity to make public comments during the meeting.

While the Saturday meeting is scheduled from 9:00 a.m. to 4:30 p.m., the meeting could end prior to 4:30 p.m. should the Council conclude its business. Therefore, members of the public interested in a specific agenda item or discussion should schedule their arrival accordingly.

Written comments will also be accepted at the time of the Saturday public meeting and, if copies are provided to the recorder, will be incorporated into the minutes.

Before including your address, phone number, email address, or other personal identifying information in your comment, you should be aware that your entire comment—including your personal identifying information—may be made publicly available at any time. While you can ask us in your comment to withhold your personal identifying information from public review, we cannot guarantee that we will be able to do so.

(Authority: 43 CFR 1784.4-2)

Andrew S. Archuleta,
California Desert District Manager.

[FR Doc. 2020-02882 Filed 2-12-20; 8:45 am]

BILLING CODE 4310-40-P